DEPARTMENT OF COMMERCE

Submission for OMB Review; Comment Request: Challenge and Prize Competition Solicitations Generic Clearance

AGENCY: Office of the Secretary, Department of Commerce.

ACTION: Notice.

SUMMARY: In compliance with the Paperwork Reduction Act of 1995, the Office of the Secretary (OS), Department of Commerce, has submitted an Information Collection Request (ICR), described below, to the Office of Management and Budget (OMB) for review and approval. This is a new ICR to seek generic clearance for the collection of routine information requested of responders to solicitations the Federal government makes during the issuance of challenges and competitions posted on the General Service Administration (GSA)'s Challenge.gov Web site. Comments submitted during the first public review of this ICR will be provided to OMB. OMB will accept further comments from the public on this ICR during the review and approval period.

DATES: Written comments must be submitted on or before July 24, 2017.

ADDRESSES: Submit your comments to OIRA_submission@omb.eop.gov or fax to (202) 395-5806.

FOR FURTHER INFORMATION CONTACT: This information collection request may be viewed at reginfo.gov. Follow the instructions to view Department of Commerce collections currently under review by OMB.

SUPPLEMENTARY INFORMATION:

Title: Challenge and Prize Competition Solicitations Generic Clearance.

Proposed Project: Descriptive information of solutions provided to the Federal government in response to Challenge and Competition solicitations posted on Challenge.gov.—OMB Control Number: 0690-XXXX (New collection), Office of the Secretary.

Abstract: This request seeks generic clearance for the collection of routine information requested of responders to solicitations the Federal government makes during the issuance of challenges and competitions posted on the General Service Administration (GSA)'s Challenge.gov Web site. Since passage of the America COMPETES Act of 2011. In order for DOC to quickly and effectively launch competitions on a continual basis, DOC seeks generic clearance to collect information for these challenges and competitions, which will generally include first name, last name, email, city, state and when applicable other demographic information, such as date of birth. It can also include other information necessary to evaluate submissions and understand their impact related to the general goals of the competition. Upon entry or during the judging process, applicants under the age of 18 may be asked to confirm parental consent, requiring students under 18 to have a parent signature in writing on a parental consent form provided by the Department in order to qualify for the contest. For certain challenges we may also need to collect data such as types of data sets used in the solution, types of software tools used in the solution, and information regarding uses of proprietary software (i.e., licenses or use agreements). Information obtained from participants will be used by the program managers (challenge manager), other agency officials (such as general counsel representatives) and in some cases the technical reviewers acting on behalf of the program manager (challenge manager).

Need and Proposed Use of the Information: In 2011, Federal agencies including DOC were given prize authority for administering challenges and competitions. Section 105(a) of the America Competes Act, adds Section 24 to the Stevenson-Wydler Technology Innovation Act of 1980 (15 U.S.C. 3701 et seq.) that addresses provisions for challenges and competitions with prizes conducted by Federal agencies. Challenges and competitions enable DOC to tap into the expertise and creativity of the public in new ways. DOC has sponsored challenges and competitions in a wide variety of areas to increase public participation and solicit new ideas on a wide array of topics important to the agency's mission. DOC's goal is to engage a broader number of stakeholders who are inspired to work on some of our most pressing issues.

The information collected will be used to understand whether the participant has met the technical requirements for the challenge, assist in the technical review and judging of the solutions that are provided, and understand the impact and consequences of administering the competition and developing solutions for submission. Information may be collected during the competition or after its completion. The submissions are evaluated by the submitting agency and typically prizes (monetary and non-monetary) are awarded to the winning entries.

This clearance applies to challenges posted on Challenge.gov, which uses a common platform for the solicitation of challenges from the public. Each agency designs the criteria for its solicitations based on the goals of the challenge and the specific needs of the agency. There is no standard submission format for solution providers to follow.

We anticipate that approximately 250 challenges would be issued each year by DOC. It is expected that other federal agencies will issue a similar number of challenges. There is no set schedule for the issuance of challenges; they are developed and issued on an “as needs” basis in response to issues the federal agency wishes to solve. The respondents to the challenges, who are participating voluntarily, are unlikely to reply to more than one or several of the challenges.

Although in previous memoranda the GSA and Office of Management and Budget (OMB) described circumstances whereby OMB approval of a PRA request is not needed, program officials at DOC have identified several sets of information that will typically need to be requested of solution providers to enable the solutions to be adequately evaluated by the program office issuing the challenge. These requests for additional information have been suggested to require a PRA review as they represent structured data requests.

There are three types of additional data that may routinely be requested. These include the following:

Title and/or Subject of the submission. Due to the nature of the submission and evaluation processes, it is important that a title and/or subject be requested and submitted for each submission in order to ensure the solution is correctly identified with its provider.

Identification of data resources. In many cases, the solution to a problem will require the solution provider to use data resources. Often, the nature of the data sets will be derived from Federal data resources, such as data.gov. Evaluations of solutions will often depend on the understanding of the selection of the data resource(s) used in the solution.

Description of methodology. For effective judging and evaluation, a description of the development methods for the solution to the challenge will be requested. For instance, a prize may be awarded to the solution of a challenge to develop an algorithm that enables reliable prediction of a certain event. A responder could submit the correct algorithm, but without the methodology, the evaluation process could not be adequately performed.

Estimated Annualized Burden Table
Forms | Number of respondents | Number of responses per respondent | Average burden (in hours) per response | Total burden hours
Individuals or Households | 500 | 1 | 10/60 | 83.3
Organizations | 500 | 1 | 10/60 | 83.3
Businesses | 500 | 1 | 10/60 | 83.3
State, territory, tribal or local governments | 30 | 1 | 10/60 | 5
Federal government | 30 | 1 | 10/60 | 5
Total | 1,560 |  |  | 255

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental PRA Lead, Office of the Chief Information Officer.

[FR Doc. 2017-13001 Filed 6-21-17; 8:45 am]

BILLING CODE 3510-13-P